DEPARTMENT OF COMMERCE

National Oceanic and Atmospheric Administration

[RTID 0648-XC742]

Magnuson-Stevens Act Provisions; Fisheries of the Northeastern United States; Northeast Multispecies Fishery; Approved Monitoring Service Providers

AGENCY: National Marine Fisheries Service (NMFS), National Oceanic and Atmospheric Administration (NOAA), Commerce.

ACTION: Notice of approved Northeast multispecies at-sea and electronic monitoring service providers for fishing year 2023.

SUMMARY: NMFS has approved nine companies to provide Northeast multispecies sector at-sea catch monitoring and/or electronic catch monitoring services in fishing year 2023. Regulations implementing the Northeast Multispecies Fishery Management Plan require at-sea catch monitoring and electronic catch monitoring companies to be approved by NMFS to provide catch monitoring services to sectors. This action will allow sectors to contract for catch monitoring services with any of the approved service providers for fishing year 2023.

DATES: Northeast multispecies at-sea and electronic monitoring service provider approvals are effective May 1, 2023, through April 30, 2024.

ADDRESSES: The list of NMFS-approved sector monitoring service providers is available at: https://www.fisheries.noaa.gov/resource/data/observer-providers-northeast-and-mid-atlantic-programs.

FOR FURTHER INFORMATION CONTACT: Samantha Tolken, Fishery Management Specialist, (978) 675-2176, email Samantha.Tolken@noaa.gov.

SUPPLEMENTARY INFORMATION: The Northeast Multispecies Fishery Management Plan includes a requirement for industry-funded monitoring of catch by sector vessels. NMFS approves independent third-party service providers who sectors may contract with to provide at-sea and/or electronic catch monitoring services to their vessels. Beginning this year, NMFS is requiring full applications for approval only from at-sea catch monitoring (ASM) and electronic catch monitoring (EM) companies that are not currently approved to be a service provider. Previously approved ASM and EM companies are no longer required to submit a full application to maintain their approval status if they continue to meet all service provider performance standards and submit required updated information annually. The required updated information to maintain approval includes an updated Emergency Action Plan, evidence of adequate insurance coverage, and, if applicable, any updates to staffing or operations. Regulations at 50 CFR 648.11(h) describe the criteria for approval of ASM and EM service provider applications. NMFS approves service providers based on: (1) Completeness and sufficiency of applications; and (2) determination of the applicant's ability to meet the performance requirements of a sector monitoring service provider. Once approved, service providers must meet specified performance requirements outlined in § 648.11(h)(5) and (6), including required coverage levels, in order to maintain eligibility. NMFS must notify service providers, in writing, if NMFS withdraws approval for any reason.

Approved Monitoring Service Providers

On December 9, 2022, NMFS announced an opportunity for new monitoring companies to apply for approval to provide ASM and/or EM services in fishing year 2023, and an opportunity for currently approved providers to submit documentation to maintain their approval status in fishing year 2023. NMFS previously approved nine companies to provide catch monitoring services to the Northeast multispecies sectors in fishing year 2022. Four of the nine approved companies provide both ASM and EM services: A.I.S., Inc.; East West Technical Services, LLC; Fathom Research, LLC; and Saltwater, Inc. The other five approved companies provide EM services only: Archipelago Marine Research, Ltd.; Flywire Cameras; New England Marine Monitoring; Satlink US, LLC; and Teem Fish Monitoring, Inc.

All currently approved ASM and EM companies continue to meet all service provider performance standards, submitted all required documentation, and are therefore approved service providers for fishing year 2023. Additionally, one company previously approved only for EM services, New England Marine Monitoring, met the ASM application requirements, documented its ability to comply with service provider standards, and therefore is newly approved to provide ASM services in fishing year 2023, in addition to EM services. Table 1 includes the revised list of approved monitoring service providers.

The new procedures do not change NMFS's authority to remove a service provider from its approved status in accordance with the regulations at § 648.11(h)(7). A monitoring service provider that fails to meet the requirements, conditions, and responsibilities will be notified in writing that it is subject to removal from the list of approved monitoring service providers. Withdrawing approval of a service provider will be based on an evaluation of the service providers ability to meet the third-party catch monitoring provider standards in § 648.11(h)(5) and (6). NMFS will closely monitor the performance of approved service providers, and will withdraw approval during the current approval term if we determine performance standards are not being met.

NMFS did not solicit applications to provide dockside monitoring (DSM) services related to the maximized retention EM program. NMFS intends to continue to fund and manage the DSM program for the remainder of the 2022 and 2023 fishing years. In future fishing years, NMFS intends to solicit applications to be an approved DSM provider when the DSM program transitions to industry funding.

Table 1—Approved Providers for Fishing Year 2023
Provider | Services | Address | Phone | Fax | Website
A.I.S., Inc | ASM/EM | 540 Hawthorn St., Dartmouth, MA 02747 | 508-990-9054 | 508-990-9055 | https://aisobservers.com/.
Archipelago Marine Research, Ltd | EM | 525 Head St., Victoria, BC V9A 5S1 Canada | 250-383-4535 | 250-383-0103 | https://www.archipelago.ca/.
East West Technical Services, LLC | ASM/EM | 91 Point Judith Rd., Suite 26 Unit 347 Narragansett, RI 02882 | 860-910-4957 | 860-223-6005 | https://www.ewts.com/.
Fathom Resources, LLC | ASM/EM | 855 Aquidneck Ave., Unit 9, Middletown, RI 02842 | 508-990-0997 | 508-858-5383 | https://fathomresources.com/.
Flywire Cameras | EM | PO BOX 55048, Lexington, KY 40511 | 888-315-7796 | 502-861-6568 | https://www.flywirecameras.com/.
New England Marine Monitoring | ASM/EM | 350 Commercial St., Portland, ME 04101 | 508-269-8138 |  | https://www.nemarinemonitoring.com/.
Saltwater, Inc | ASM/EM | 733 N St., Anchorage, AK 99501 | 907-276-3241 | 907-258-5999 | https://www.saltwaterinc.com/.
Satlink US, LLC | EM | 16423 Sawgrass Drive, Rehoboth Beach, DE 19971 | 703-447-5287 |  | https://www.satlink.es/en/.
Teem Fish Monitoring, Inc. | EM | 309 2nd Ave., Suite 363, Prince Rupert, BC V8J 3T1 Canada | 778-884-2598 |  | https://teem.fish/.
Note: ASM/EM = At-sea and electronic monitoring; EM = Electronic monitoring only.

Authority: 16 U.S.C. 1801 et seq.

Dated: March 2, 2023.
Jennifer M. Wallace,
Acting Director, Office of Sustainable Fisheries, National Marine Fisheries Service.

[FR Doc. 2023-04632 Filed 3-6-23; 8:45 am]

BILLING CODE 3510-23-P